DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

SUPPLEMENTARY INFORMATION: The National Agricultural Research, Extension, Education, and Economics Advisory Board, which represents 30 constituent categories, as specified in section 802 of the Federal Agriculture Improvement and Reform Act of 1996 (Pub. L. No. 104-127), has scheduled a National Agricultural Research, Extension, Education, and Economics Advisory Board Meeting, October 16-18, 2000.

On Monday, October 16 through Wednesday, October 18, 2000, the Advisory Board will hold a fall General Meeting which will include Orientation for new members, on Monday morning and a General Business Session in the afternoon. The Business Session will include reports from several Working Groups of the Advisory Board, two of which will be reporting on the ARS Peer Review process recommendations and follow-up to the “Cutting-Edge Science and Technology” meeting held in July 2000. A Focus Session with the theme, “Improving Advocacy and Funding for Research, Education, and Economics in USDA,” will be held on Tuesday, October 17, 2000, which will include (1) statement of the problem, (2) the present USDA budget process, (3) advocacy strategy, and (4) successful and new approaches for budget support. Speakers from the White House Office of Science and Technology Policy, USDA, AESOP Enterprises, Ltd., other groups supporting the National Institutes of Health and the National Science Foundation, and a variety of other interests will be invited to present policy and funding strategies for research and education. The objective of this meeting will be to provide the Advisory Board an opportunity to understand USDA and Federal Government approaches to budget formation and successful funding strategies. On Wednesday, October 18, 2000, the Advisory Board will hold the election of their new Chair, Vice Chair, and Executive Committee, and focus on future efforts of the Board in addressing the transition in the Administration. They will be articulating their findings from the “Cutting-Edge Science and Technology” meeting and the previous day's focus sessions into formal recommendations for the Secretary of Agriculture. They will also begin setting their agenda for the coming year, which will include establishment of a rapport with the new Administration on communicating high priority USDA research and education opportunities. Limited time will be provided for comments from the public as noted in a forthcoming agenda. Also written comments will be accepted for public record up to 2 weeks following the Board meeting. Final agenda will be available to the public prior to the meeting.

Dates:

October 16—9:00 a.m. to Noon—Orientation of New Members

October 16—1:00 p.m. to 5:00 p.m.—General Meeting

October 16—6:00 p.m. to 8:00 p.m.—Working Reception

October 17—9:00 a.m. to 5:00 p.m.—Focus Session

October 18—9:00 a.m. to Noon—Focus Session Wrap-up and Discussion

Place: Loew's L'Enfant Plaza Hotel, 480 L'Enfant Plaza, SW., Washington, DC (Rooms to be announced)

Type of Meeting: Open to the public.

Comments: The public may file written comments before or after the meeting with the contact person. All statements will become a part of the official records of the National Agricultural Research, Extension, Education, and Economics Advisory Board and will be kept on file for public review in the Office of the Advisory Board; Research, Education, and Economics; U.S. Department of Agriculture; Washington, DC 20250-2255.

FOR FURTHER INFORMATION CONTACT: Deborah Hanfman, Executive Director, National Agricultural Research, Extension, Education, and Economics Advisory Board, Research, Education, and Economics Advisory Board Office, Room 344A Jamie L. Whitten Building, U.S. Department of Agriculture, STOP: 2255, 1400 Independence Avenue, SW, Washington, DC 20250-2255. Telephone: 202-720-3684, Fax: 202-720-6199, or e-mail: lshea@reeusda.gov.

Done at Washington, DC this 27th day of September 2000.
I. Miley Gonzalez,
Under Secretary, Research, Education, and Economics.

[FR Doc. 00-25296 Filed 10-2-00; 8:45 am]

BILLING CODE 3410-22-P